DEPARTMENT OF DEFENSE

Office of the Secretary

[Docket ID: DoD-2023-HA-0120]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: Digital Front Door Focus Groups; OMB Control Number: 0720-DFDS.

Needs and Uses: The DHA is working to rapidly pilot a single “digital” front door intended to modernize the model of care delivery within the Military Health System (MHS). The purpose of these focus groups are to help the MHS better address patient needs. We will conduct 25 focus groups intended to solicit feedback about patient perceptions of the MHS, unmet patient needs, and whole-health goals (including wellness-based needs) of beneficiaries that are engaging in digital health offerings offered at the pilot sites. The focus group will solicit insight from Active Duty Beneficiaries, Dependents, Retirees, and other eligible MHS beneficiaries. Information will be used to inform DHA leadership about the patient needs with regard to the digital front door application.

Affected Public: Individuals or households.

Annual Burden Hours: 300.

Number of Respondents: 150.

Responses per Respondent: 2.

Annual Responses: 300.

Average Burden per Response: 60 minutes.

Frequency: On occasion.

Dated: December 13, 2023.
Aaron T. Siegel,
Alternate OSD Federal Register Liaison Officer, Department of Defense.

[FR Doc. 2023-27730 Filed 12-15-23; 8:45 am]

BILLING CODE 6001-FR-P